DEPARTMENT OF COMMERCE

National Oceanic and Atmospheric Administration

Federal Consistency Appeal by AES Sparrows Point LNG, LLC and Mid-Atlantic Express, LLC From an Objection by the Maryland Department of the Environment

AGENCY: National Oceanic and Atmospheric Administration (NOAA), Department of Commerce (Commerce).

ACTION: Notice of extension of time to issue a decision.

SUMMARY: Notice is hereby provided that the deadline for issuing a decision has been extended 15 days, in the federal consistency appeal filed with the Department of Commerce by AES Sparrows Point LNG, LLC and Mid-Atlantic Express, LLC (collectively, AES).

DATES: The new deadline for issuing a decision on AES's federal consistency appeal is extended to June 30, 2008.

ADDRESSES: Materials from the appeal record are available at the Internet site http://www.ogc.doc.gov/czma.htm and at the Office of the General Counsel for Ocean Services, National Oceanic and Atmospheric Administration, U.S. Department of Commerce, 1305 East-West Highway, Silver Spring, MD 20910.

FOR FURTHER INFORMATION CONTACT: Odin Smith, Attorney-Advisor, Office of the Assistant General Counsel for Legislation and Regulation, Department of Commerce, via e-mail at osmith@doc.gov, or at (202) 482-4144.

SUPPLEMENTARY INFORMATION: In August 2007, AES filed a notice of appeal with the Secretary of Commerce (Secretary) pursuant to section 307(c)(3)(A) of the Coastal Zone Management Act of 1972 (CZMA), as amended, 16 U.S.C. 1451 et seq., and the Department of Commerce's implementing regulations, 15 CFR part 930, subpart H. The appeal was taken from an objection by the Maryland Department of the Environment (State) to AES's consistency certification for U.S. Army Corps of Engineers and Federal Energy Regulatory Commission permits to construct and operate a liquefied natural gas (LNG) terminal and associated 88-mile natural gas pipeline.

The decision record for this appeal was closed on April 14, 2008. Notice of closure was published in the Federal Register. 73 FR 20,028 (April 14, 2008). Under the CZMA, a final decision on the appeal must be issued no later than 60 days after notice announcing closure of the decision record is published. 16 U.S.C. 1465(c)(1). This deadline, however, may be extended by publishing (within the 60-day period) a subsequent notice explaining why a decision cannot be issued within that time frame. 16 U.S.C. 1465(c)(1). In this event, a final decision must be issued no later than 15 days after the date of publication of the subsequent notice. 16 U.S.C. 1465(c)(2).

This announcement provides notice that the deadline for issuing a decision on the appeal has been extended 15 days. The Secretary needs the additional time to complete a review of the record and reach a decision. A decision on AES's administrative appeal will be issued no later than June 30, 2008.

Dated: June 9, 2008.
Joel La Bissonniere,
Assistant General Counsel for Ocean Services.

(Federal Domestic Assistance Catalog No. 11.419 Coastal Zone Management Program Assistance.)

[FR Doc. E8-13300 Filed 6-12-08; 8:45 am]

BILLING CODE 3510-08-P